RAILROAD RETIREMENT BOARD

Sunshine Act Meetings

TIME AND DATE: 10:00 a.m., January 15, 2020.

PLACE: 8th Floor Board Conference Room, 844 North Rush Street, Chicago, Illinois, 60611.

STATUS: The initial part of this meeting will be open to the public. The rest of the meeting will be closed to the public.

MATTERS TO BE CONSIDERED:

Portions Open to the Public

1. Report from Director of Programs (Plan for Implementation of SCOTUS decision)

2. Report from Director of Programs and Director of Disability on possible updates and improvements to the disability process

3. NRRIT consultant follow up

Portions Closed to the Public

4. Personnel matters

CONTACT PERSON FOR MORE INFORMATION: Stephanie Hillyard, Secretary to the Board, Phone No. 312-751-4920.

Authority: 5 U.S.C. 552b.

Dated: January 2, 2020.
Stephanie Hillyard,
Secretary to the Board.

[FR Doc. 2020-00056 Filed 1-2-20; 4:15 pm]

BILLING CODE 7905-01-P